COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) and service(s) previously furnished by such agencies.

DATES: Comments must be received on or before: March 5, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) are proposed for addition to the Procurement List for production by the nonprofit agencies listed:

Product(s)

NSN(s)—Product Name(s):

7195-00-NIB-2442—Seat Cushion, Ergonomic, Memory Foam, Coccyx Support, Black

750056001N—Power Strip Holder, Clamp-On, Black

750056501N—Monitor Stand, Wireless and USB Charging, 21.5″ Wide, Black

750056301N—Monitor Stand, Height Adjustable, Storage Drawer, Black

620003501N—Desk Lamp, LED, Wireless and USB Charging, Black

750055901N—Keyboard Tray, Clamp-On, Height Adjustable, Black

750056401N—Laptop and Tablet Riser, Ergonomic, Height and Angle Adjustable, Aluminum

Designated Source of Supply: Chicago Lighthouse Industries, Chicago, IL

Contracting Activity: FEDERAL ACQUISITION SERVICE, GSA/FAS FURNITURE SYSTEMS MGT DIV

Distribution: A-List

Deletions

The following product(s) and service(s) are proposed for deletion from the Procurement List:

Product(s)

NSN(s)—Product Name(s):

6645-01-046-8848—Clock, Wall, Slimline, Brown 9¼″ Quartz

6645-01-046-8849—Clock, Wall, Slimline, Brown 12¾″ Quartz

7510-01-600-7579—Wall Calendar, Dated 2022, Wire Bound w/Hanger, 15½″ x 22″

7510-01-600-7585—Monthly Wall Calendar, Dated 2022, Jan-Dec, 8½″ x 11″

7510-01-600-7633—Wall Calendar, Dated 2022, Wire Bound w/Hanger, 12″ x 17″

7510-01-682-8097—Wall Calendar, Recycled, Dated 2022, Vertical, 3 Months, 12¼″ x 26″

7510-01-682-8092—Monthly Planner, Recycled, Dated 2022, 14-Month, 6⅞″ x 8¾″

7510-01-682-8111—Professional Planner, Dated 2022, Recycled, Weekly, Black, 8½″ x 11″

7530-01-600-7576—Daily Desk Planner, Dated 2022, Wire Bound, Non-refillable, Black Cover

7530-01-600-7602—Monthly Desk Planner, Dated 2022, Wire Bound, Non-refillable, Black Cover

7530-01-600-7608—Weekly Desk Planner, Dated 2022, Wire Bound, Non-refillable, Black Cover

7530-01-600-7619—Weekly Planner Book, Dated 2022, 5″ x 8″, Black

Designated Source of Supply: Chicago Lighthouse Industries, Chicago, IL

Contracting Activity: GSA/FAS ADMIN SVCS ACQUISITION BR (2, NEW YORK, NY)

NSN(s)—Product Name(s):

7045-01-470-3590—Greendisk

Designated Source of Supply: North Central Sight Services, Inc., Williamsport, PA

Contracting Activity: DLA TROOP SUPPORT, PHILADELPHIA, PA

NSN(s)—Product Name(s):

7520-00-904-1265—Marker, Tube Type, Fine Point, Black

7520-00-904-1266—Marker, Tube Type, Fine Point, Red

7520-00-904-1267—Marker, Tube Type, Fine Point, Green

7520-00-904-1268—Marker, Tube Type, Fine Point, Blue

Designated Source of Supply: Winston-Salem Industries for the Blind, Inc, Winston-Salem, NC

Contracting Activity: GSA/FAS ADMIN SVCS ACQUISITION BR (2, NEW YORK, NY)

Service(s)

Service Type: Parts Machining

Mandatory for: U.S. Postal Service: National Inventory Control Center, Topeka, KS

Designated Source of Supply: Arizona Industries for the Blind, Phoenix, AZ

Contracting Activity: U.S. Postal Service, Washington, DC

Michael R. Jurkowski,
Acting Director, Business Operations.

[FR Doc. 2023-02296 Filed 2-2-23; 8:45 am]

BILLING CODE 6353-01-P